DEPARTMENT OF LABOR

Mine Safety and Health Administration

RIN 1219-AB46

Emergency Mine Evacuation

AGENCY: Mine Safety and Health Administration, Labor.

ACTION: Notice of SCSR availability.

SUMMARY: This notice informs the mining community of the availability of realistic self-contained self-rescue (SCSR) training units to conduct annual SCSR expectations training.

DATES: Underground coal mine operators must have a purchase order for realistic SCSR training units by April 30, 2007 and conduct this component of expectations training within 60 days of receipt of the units.

FOR FURTHER INFORMATION CONTACT: Patricia W. Silvey, Director, Office of Standards, Regulations, and Variances, MSHA, 1100 Wilson Boulevard, Room 2350, Arlington, Virginia 22209-3939. Ms. Silvey can be reached at 202-693-9440 (voice), 202-693-9441 (facsimile), or silvey.patricia@dol.gov (Internet e-mail).

SUPPLEMENTARY INFORMATION: On December 8, 2006, the Mine Safety and Health Administration (MSHA) published a final rule on Emergency Mine Evacuation. The majority of the requirements applied to underground coal mines. [71 FR 71430] Section 75.1504(c) of the final rule is a new provision that requires underground coal mine operators to provide annual SCSR expectations training to miners. Expectations training requires the miner to breathe through a realistic SCSR training unit or an equivalent device that provides the sensation of airflow resistance and heat that the miner would experience when using an SCSR during an emergency.

When the final rule was published, realistic SCSR training units were not available. MSHA did not require compliance with expectations training until the training units became available. MSHA also stated that the Agency would notify mine operators of the availability of the training units by publishing a notice in the Federal Register.

MSHA has determined that realistic SCSR training units are now available. These units are now manufactured by CSE, Ocenco, and Draeger. Mine operators can purchase these units directly from the manufacturers at the addresses below:

CSE CORPORATE HEADQUARTERS 600 Seco Road, Monroeville, PA 15146 Phone: 800-245-2224 Fax: 412-856-9203
Product Description | Part Number
Complete SR-T Live Training Unit | Q152501001
Canister Assembly with Cap in Storage | Q152502001
SR-T mouthpiece with plug | Q152050226
SR-T Parts Kit | Q152552001
OCENCO, INC. Lake View Corporate Park, 10225 82nd Avenue, Pleasant Prairie, WI 53158-5801 U.S.A. Phone: 262-947-9000 Fax: 262-947-9020
Product Description | Part Number
Expectations Mouthpiece | 900060
Expectations Trainer Cartridge | 900059
DRAEGER SAFETY, INC. 101 Technology Drive, Pittsburgh, PA 15275-1057 Phone: 412-787-8383 Fax: 412-787-2207
Product Description | Part Number
Practice Simulator for OXY K Plus Training Unit | 6303646

Dated: March 22, 2007.
Richard E. Stickler,
Assistant Secretary for Mine Safety and Health.

[FR Doc. E7-5920 Filed 3-29-07; 8:45 am]

BILLING CODE 4510-43-P